DEPARTMENT OF TRANSPORTATION

Federal Aviation Administration

14 CFR Parts 121 and 129

[Docket No. FAA-2003-15653; Amendment Nos. 121-287 and 129-38]

RIN 2120-AH96

Flightdeck Security on Large Cargo Airplanes

AGENCY: Federal Aviation Administration (FAA), DOT.

ACTION: Final rule; correction.

SUMMARY: This document makes a correction to the final rule published in the Federal Register on July 18, 2003 (68 FR 42874). That rule provided an alternative means of compliance to operators of all-cargo airplanes that are required to have a reinforced security flightdeck door.

EFFECTIVE DATE: This correction is effective on September 30, 2003.

FOR FURTHER INFORMATION CONTACT: Joe Keenan, telephone (202) 267-9579.

Correction

In the final rule FR Doc. 03-18075, published on July 18, 2003, (68 FR 42874), make the following corrections:

1. On page 42874, in column 1 in the heading section, beginning on line 4, correct “Amendment Nos. 121-287 and 129-37” to read “Amendment Nos. 121-287 and 129-38.”

Issued in Washington, DC on September 23, 2003.
Donald P. Byrne,
Assistant Chief Counsel for Regulations.

[FR Doc. 03-24745 Filed 9-29-03; 8:45 am]

BILLING CODE 4910-13-P